DEPARTMENT OF ENERGY

Federal Energy Regulatory Commission

[Docket No. RP97-71-026]

Transcontinental Gas Pipe Line Corporation; Notice of Compliance Filing

February 28, 2001.

Take notice that on February 16, 2001 Transcontinental Gas Pipe Line Corporation (Transco) tendered for filing as part of its FERC Gas Tariff, Third Revised Volume No. 1, the tariff sheets listed below with a proposed effective date of February 1, 2001:

Substitute Eleventh Revised Sheet No. 42

Substitute Ninth Revised Sheet No. 46

Fifth Revised Sheet No. 171

Transco states that the purpose of the instant filing is to supplement Transco's compliance filing in Docket Nos. RP97-71-021 & RP97-71-020 of February 1, 2001 (February 1 Filing), which inadvertently neglected to reflect the Rate Schedule IT tariff modifications specifically relating to transportation serve received at Washington Storage field and delivered in Zone 3. These modifications are necessary in order to comply with the Commission's final resolution of the backhaul rate equals to the forward haul rate under Transco's Rate Schedule IT. Accordingly, Transco is submitting Substitute Eleventh Revised sheets No. 42 and Substitute Ninth Revised Sheet No. 46 to replace the respective tariff sheets in the February 1 Filing and also submitting Fifth Revised Sheet No. 171 as an addition to the February 1 Filing.

Transco states that copies of the filing are being mailed to each of its affected customers, interested State Commissions, and other interested parties.

Any person desiring to protest said filing should file a protest with the Federal Energy Regulatory Commissions, 888 First Street, NE., Washington, DC 20426, in accordance with section 385.211 of the Commissions's Rules and Regulations. All such protests must be filed in accordance with section 154.210 of the Commissions's regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5357 Filed 3-5-01; 8:45 am]

BILLING CODE 6717-01-M